DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Matrix Metalloproteinase-9 Blade-1 Region Peptides: Use as Cell Migration Modulators

Description of Technology: Matrix metalloproteinase-9 (MMP-9) is an enzyme integrally involved in many normal physiological processes that require degradation and remodeling of the extracellular matrix, such as cell migration and invasion, wound repair, bone remodeling, angiogenesis, and embryonic growth. MMP-9 is shown to be involved in the progression of several diseases including many cancers, cardiovascular diseases, CNS diseases, respiratory diseases, and arthritis. In cancer, MMP-9 is thought to promote growth, migration, and spread of cancer cells by catalyzing the degradation of extracellular matrix proteins, releasing bound growth factors, and allowing cancer cells to escape from the primary tumor.

NIH Inventors have discovered that specific polypeptides corresponding to Blade-1 region of MMP-9 hemopexin domain can stimulate migration of cells, specifically the migration of cells expressing β1 integrin. The present technology can be used to develop novel therapeutic candidates for the prevention and treatment of human disease conditions mediated by MMP-9 promoted cell migration, e.g., cancer, inflammation, fibrotic diseases, cardiovascular diseases, CNS diseases, respiratory diseases, angiogenesis and arthritis.

Applications: Development of therapeutics for treating or preventing human diseases (cancer) using MMP-9 Blade-1 domain polypeptides or peptide analogs.

Development Status: Early-stage.

Inventors: SK Akiyama et al. (NIEHS)

Patent Status: U.S. Provisional Application No. 61/360,328 filed 30 Jun 2010 (HHS Reference No. E-146-2010/0-US-01)

Licensing Status: Available for licensing.

Licensing Contact: Suryanarayana Vepa, PhD, J.D.; 301-435-5020; vepas@mail.nih.gov.

Collaborative Research Opportunity: The National Institute of Environmental Health Sciences, Laboratory of Molecular Carcinogenesis, Cell Adhesion Group, is seeking statements of capability or interest from parties interested in collaborative research to further develop, evaluate, or commercialize this technology. Please contact Elizabeth M. Denholm, PhD at 919-541-0981 or denholme@mail.nih.gov for more information.

Melanocyte Pigmentation or Proliferation With Neuregulin: Compositions and Methods to Treat Skin Disorders, Including Skin Cancer

Description of Invention: Human skin pigmentation is regulated by complex and intricate interactions among melanocytes and keratinocytes in the epidermis and fibroblasts in the dermis. A number of factors secreted from keratinocytes and/or from fibroblasts have been shown to be involved in regulating skin pigmentation after UV exposure. NIH investigators have previously demonstrated that the less pigmented and thicker skin on the palms and soles is regulated by underlying fibroblasts in those areas, specifically via a secreted factor (DKK1) that modulates Wnt signaling. Now, using microarray analysis to compare gene expression patterns in 15 different primary dermal fibroblast populations derived from the dorsal trunk skin of three different skin phototypes (I, III and VI), these investigators have identified a number of genes that differ dramatically in expression. One among them, neuregulin 1 (NRG-1), secreted by fibroblasts derived from dark skin, effectively increases the pigmentation of melanocytes in tissue culture and in an artificial skin model and regulates their growth, suggesting it is one of the major factors determining human skin color. NRG-l was observed to be highly expressed by fibroblasts derived from darker skin. NIH investigators believe that NRG-1 increases the proliferation of human melanocytes via the phosphorylation of Akt. These results suggest a potential role for NRG-1 in regulating constitutive human skin color and perhaps its dysfunction in pigmentary skin diseases. Based on these observations, NIH investigators are currently developing compositions and methods of modulating pigmentation and proliferation of a melanocyte to prevent or treat skin disorders, including skin cancer.

Applications:

• Therapeutics for skin disorders.

• Therapeutics for skin cancer.

Development Status: Early stage and studies on reconstructed skin model and in melanocytes.

Inventors: Vincent J. Hearing and Wonseon Choi (NCI)

Related Publications:

1. Choi W, Wolber R, Gerwat W, Mann T, Hearing VJ. Characterization of the influence of fibroblasts on melanocyte function and pigmentation. In: Proc. XXth Intl. Pigment Cell Conf., edited by K. Jimbow, Bologna, Italy: Medimond, 2008, p. 79-82.

2. Choi W, Wolber R, Gerwat W, Mann T, Batzer J, Smuda C, Liu H, Kolbe L, Hearing VJ. A novel fibroblast-derived melanogenic paracrine factor neuregulin-1 (NRG-1) that modulates the constitutive color and melanocyte function in human skin. J. Cell Sci. in press, 2010.

Patent Status: U.S. Provisional Application No. 61/357,846 filed 23 Jun 2010 (HHS Reference No. E-100-2010/0-US-01).

Licensing Status: Available for licensing.

Licensing Contact: Suryanarayana Vepa, PhD, J.D.; 301-435-5020; vepas@mail.nih.gov.

Collaborative Research Opportunity: The Center for Cancer Research, Laboratory of Cell Biology, is seeking statements of capability or interest from parties interested in collaborative research to further develop, evaluate, or commercialize the use of NRG-1 (or modifiers of its function) to regulate skin pigmentation. Please contact John Hewes, PhD at 301-435-3121 or hewesj@mail.nih.gov for more information.

Dated: August 17, 2010.
Richard U. Rodriguez,
Director, Division of Technology Development and Transfer, Office of Technology Transfer, National Institutes of Health.

[FR Doc. 2010-20862 Filed 8-20-10; 8:45 am]

BILLING CODE 4140-01-P